DEPARTMENT OF ENERGY

Federal Energy Regulatory Commission

Combined Notice of Filings #1

Take notice that the Commission received the following electric corporate filings:

Docket Numbers: EC23-140-000.

Applicants: Chestnut Flats Lessee, LLC.

Description: Application for Authorization Under Section 203 of the Federal Power Act of Chestnut Flats Lessee, LLC.

Filed Date: 9/29/23.

Accession Number: 20230929-5363.

Comment Date: 5 p.m. ET 10/20/23.

Docket Numbers: EC23-141-000.

Applicants: Chalk Point Power, LLC, Dickerson Power, LLC, Lanyard Power Marketing, LLC.

Description: Joint Application for Authorization Under Section 203 of the Federal Power Act of Chalk Point Power, LLC, et al.

Filed Date: 9/29/23.

Accession Number: 20230929-5366.

Comment Date: 5 p.m. ET 10/20/23.

Take notice that the Commission received the following electric rate filings:

Docket Numbers: ER23-2333-001.

Applicants: PJM Interconnection, L.L.C.

Description: Tariff Amendment: Submission of Response to Deficiency Letter, Original ISA, SA No. 6961 to be effective 12/31/9998.

Filed Date: 10/2/23.

Accession Number: 20231002-5127.

Comment Date: 5 p.m. ET 10/23/23.

Docket Numbers: ER23-2355-001.

Applicants: PJM Interconnection, L.L.C.

Description: Tariff Amendment: Submission of Response to Deficiency Letter, Amended ISA, SA No. 5833 to be effective 9/6/2023.

Filed Date: 10/2/23.

Accession Number: 20231002-5187.

Comment Date: 5 p.m. ET 10/23/23.

Docket Numbers: ER23-2925-001.

Applicants: PJM Interconnection, L.L.C.

Description: Tariff Amendment: Amendment of Original NSA, SA No. 7106; Queue No. AE2-309, Docket No. ER23-2925 to be effective 11/25/2023.

Filed Date: 10/2/23.

Accession Number: 20231002-5299.

Comment Date: 5 p.m. ET 10/23/23.

Docket Numbers: ER23-2976-000.

Applicants: Public Service Company of Colorado.

Description: § 205(d) Rate Filing: 2023-09-29 GVH—DWA—Orchard Mesa—756—0.0.0 to be effective 10/1/2023.

Filed Date: 9/29/23.

Accession Number: 20230929-5316.

Comment Date: 5 p.m. ET 10/20/23.

Docket Numbers: ER23-2977-000.

Applicants: Midcontinent Independent System Operator, Inc.

Description: § 205(d) Rate Filing: 2023-09-29_Reliability Based Demand Curve to be effective 6/3/2024.

Filed Date: 9/29/23.

Accession Number: 20230929-5322.

Comment Date: 5 p.m. ET 10/27/23.

Docket Numbers: ER23-2978-000.

Applicants: Public Service Company of Colorado.

Description: § 205(d) Rate Filing: 2023-09-29—GVH—SGDIA—766 -0.0.0 to be effective 10/1/2023.

Filed Date: 9/29/23.

Accession Number: 20230929-5331.

Comment Date: 5 p.m. ET 10/20/23.

Docket Numbers: ER23-2979-000.

Applicants: CPV Maple Hill Solar, LLC.

Description: Initial rate filing: Reactive Power Rate Schedule to be effective 11/1/2023.

Filed Date: 9/29/23.

Accession Number: 20230929-5336.

Comment Date: 5 p.m. ET 10/20/23.

Docket Numbers: ER23-2980-000.

Applicants: Public Service Company of Colorado.

Description: Tariff Amendment: 2023-09-29 HLYCRS—Dist Wheeling Agrmt—625—NOC 0.1.0 to be effective 10/1/2023.

Filed Date: 9/29/23.

Accession Number: 20230929-5339.

Comment Date: 5 p.m. ET 10/20/23.

Docket Numbers: ER24-1-000.

Applicants: Consolidated Edison Company of New York, Inc.

Description: § 205(d) Rate Filing: 86 Value Stack Credit 9-2023 to be effective 10/2/2023.

Filed Date: 10/2/23.

Accession Number: 20231002-5001.

Comment Date: 5 p.m. ET 10/23/23.

Docket Numbers: ER24-2-000.

Applicants: PJM Interconnection, L.L.C.

Description: § 205(d) Rate Filing: Original NSA, Service Agreement No. 7085; Queue No. AF2-165 to be effective 12/4/2023.

Filed Date: 10/2/23.

Accession Number: 20231002-5074.

Comment Date: 5 p.m. ET 10/23/23.

Docket Numbers: ER24-3-000.

Applicants: Pennsylvania Electric Company, PJM Interconnection, L.L.C.

Description: § 205(d) Rate Filing: Pennsylvania Electric Company submits tariff filing per 35.13(a)(2)(iii: Penelec Amends 10 ECSAs (5929 5935 5936 5937 5940 5950 5953 6039 6040 6051) to be effective 12/31/9998.

Filed Date: 10/2/23.

Accession Number: 20231002-5098.

Comment Date: 5 p.m. ET 10/23/23.

Docket Numbers: ER24-4-000.

Applicants: Tri-State Generation and Transmission Association, Inc.

Description: § 205(d) Rate Filing: Initial Filing of Rate Schedule FERC No. 360 to be effective 8/31/2023.

Filed Date: 10/2/23.

Accession Number: 20231002-5125.

Comment Date: 5 p.m. ET 10/23/23.

Docket Numbers: ER24-5-000.

Applicants: Tri-State Generation and Transmission Association, Inc.

Description: § 205(d) Rate Filing: Amendment to Rate Schedule FERC No. 61 to be effective 12/1/2023.

Filed Date: 10/2/23.

Accession Number: 20231002-5178.

Comment Date: 5 p.m. ET 10/23/23.

Docket Numbers: ER24-6-000.

Applicants: PJM Interconnection, L.L.C.

Description: § 205(d) Rate Filing: Original ISA, Service Agreement No. 7086; Queue No. AE2-323 to be effective 8/31/2023.

Filed Date: 10/2/23.

Accession Number: 20231002-5182.

Comment Date: 5 p.m. ET 10/23/23.

Docket Numbers: ER24-7-000.

Applicants: Alabama Power Company, Georgia Power Company, Mississippi Power Company.

Description: Tariff Amendment: Alabama Power Company submits tariff filing per 35.15: Pine Gate Renewables (Fable Solar) LGIA Termination Filing to be effective 10/2/2023.

Filed Date: 10/2/23.

Accession Number: 20231002-5196.

Comment Date: 5 p.m. ET 10/23/23.

Docket Numbers: ER24-8-000.

Applicants: PJM Interconnection, L.L.C.

Description: § 205(d) Rate Filing: Original ISA, SA No. 7092 & Original ICSA, SA No. 7093; Queue No. AF1-092 to be effective 12/1/2023.

Filed Date: 10/2/23.

Accession Number: 20231002-5283.

Comment Date: 5 p.m. ET 10/23/23.

Docket Numbers: ER24-9-000.

Applicants: Pacific Gas and Electric Company.

Description: § 205(d) Rate Filing: Revisions to Shelter Cove (SA 382) to be effective 12/4/2023.

Filed Date: 10/2/23.

Accession Number: 20231002-5289.

Comment Date: 5 p.m. ET 10/23/23.

Docket Numbers: ER24-10-000.

Applicants: Idaho Power Company.

Description: Compliance filing: Attachment M & Attachment N—Revisions per FERC Order to be effective 1/1/2024.

Filed Date: 10/2/23.

Accession Number: 20231002-5294.

Comment Date: 5 p.m. ET 10/23/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 2, 2023.
Debbie-Anne A. Reese,
Deputy Secretary.

[FR Doc. 2023-22315 Filed 10-5-23; 8:45 am]

BILLING CODE 6717-01-P